DEPARTMENT OF COMMERCE

National Oceanic and Atmospheric Administration

Agency Information Collection Activities; Submission to the Office of Management and Budget (OMB) for Review and Approval; Comment Request; Highly Migratory Species Permit Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 8, 2021, (86 FR 30411) during a 60-day comment period. This notice allows for an additional 30 days for public comments.

Agency: National Oceanic & Atmospheric Administration (NOAA), Commerce.

Title: Atlantic Highly Migratory Species Permit Family of Forms.

OMB Control Number: 0648-0327.

Form Number(s): None.

Type of Request: Regular submission [extension of a current information collection].

Number of Respondents: 34,803.

Average Hours per Response: Renewal applications for the following vessel permits—Atlantic Tunas, HMS Charter/Headboat, HMS Angling, and Swordfish General Commercial, 10 minutes; initial applications for the following vessel permits—Atlantic Tunas, HMS Charter/Headboat, HMS Angling, and Swordfish General Commercial, 34 minutes; One-time application for the IMO/LP number, 30 minutes.

Total Annual Burden Hours: 9,017.

Needs and Uses: This request is for the revision and extension of a current information collection. This collection is being revised to remove the Atlantic tuna dealer permits as this burden is captured under OMB Control Number 0648-0202.

Under the provisions of the Magnuson-Stevens Fishery Conservation and Management Act (16 U.S.C. 1801 et seq.), the National Oceanic and Atmospheric Administration's National Marine Fisheries Service (NMFS) is responsible for management of the Nation's marine fisheries. In addition, NMFS must comply with the United States' obligations under the Atlantic Tunas Convention Act of 1975 (16 U.S.C. 971 et seq.). NMFS issues permits to fishing vessels in order to collect information necessary to comply with domestic and international obligations, secure compliance with regulations, and disseminate necessary information.

Regulations at 50 CFR 635.4 require that vessels participating in commercial and recreational fisheries for Atlantic highly migratory species (HMS) obtain a Federal permit issued by NMFS. Vessel permits include Atlantic Tunas (except Longline permits, which are approved under PRA 0648-0205), HMS Charter/Headboat, HMS Angling, and Swordfish General Commercial permits. This action also includes the one-time requirement for commercial vessels greater than 20 meters in length to obtain an International Maritime Organization/Lloyd's Registry (IMO/LR) number.

Affected Public: Business or other for-profit organizations (commercial and for-hire vessel owners), Individuals or households (private recreational vessel owners).

Frequency: Annually.

Respondent's Obligation: Mandatory.

Legal Authority: Magnuson-Stevens Fishery Conservation and Management Act (16 U.S.C. 1801 et seq.), and the Atlantic Tunas Convention Act of 1975 (16 U.S.C. 971 et seq.)

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0327.

Sheleen Dumas,
Department PRA Clearance Officer, Office of the Chief Information Officer, Commerce Department.

[FR Doc. 2021-19942 Filed 9-14-21; 8:45 am]

BILLING CODE 3510-22-P